DEPARTMENT OF ENERGY

10 CFR Parts 430 and 431

[EERE-2019-BT-NOA-0011]

RIN 1904-AE24

Test Procedure Interim Waiver Process

AGENCY: Office of Energy Efficiency and Renewable Energy, Department of Energy.

ACTION: Notice of webinar and extension of public comment period.

SUMMARY: On May 1, 2019, the U.S. Department of Energy (DOE) published a Notice of Proposed Rulemaking (NOPR) that proposed amendments to streamline its test procedure interim waiver decision-making process. The comment period for the NOPR ends on July 1, 2019. This document announces an extension of the public comment period to July 15, 2019 and the scheduling of a webinar regarding the proposal.

DATES: The comment period for the proposed rule published on May 1, 2019 (84 FR 18414) is extended. DOE will accept comments, data, and information regarding this NOPR received no later than midnight on July 15, 2019. The webinar will be held on Thursday, July 11, 2019 from 9:00 a.m. to 11:00 a.m.

ADDRESSES: Interested persons are encouraged to submit comments, identified by docket number [EERE-2019-BT-NOA-0011], and/or Regulation Identification Number (RIN) 1904-AE24, by any one of the following methods:

1. Federal e-Rulemaking Portal: http://www.regulations.gov. Follow the instructions for submitting comments.

2. Email: TPWaiverProcess2019NOA0011@ee.doe.gov. Include docket number [EERE-2019-BT-NOA-0011] and/or RIN 1904-AE24 in the subject line of the message. Please include the full body of your comments in the text of the message or as an attachment. If you have additional information such as studies or journal articles and cannot attach them to your electronic submission, please send them on a CD or USB flash drive to the address listed in paragraph 4. The additional material must clearly identify your electronic comments by name, date, subject, and docket number [EERE-2019-BT-NOA-0011].

3. Mail: Address written comments to Appliance and Equipment Standards Program, U.S. Department of Energy, Building Technologies Office, Mailstop EE-5B, 1000 Independence Avenue SW, Washington, DC 20585-0121 (due to potential delays in DOE's receipt and processing of mail sent through the U.S. Postal Service, we encourage respondents to submit comments electronically to ensure timely receipt). If possible, please submit all items on a CD or USB flash drive, in which case it is not necessary to include printed copies.

4. Hand Delivery/Courier: Appliance and Equipment Standards Program, U.S. Department of Energy, Building Technologies Office, 950 L'Enfant Plaza SW, Suite 600, Washington, DC 20024. Telephone (202) 287-1445. If possible, please submit all items on a CD or USB flash drive, in which case it is not necessary to include printed copies.

5. Public Webinar: Webinar registration information, participant instructions, and information about the capabilities available to webinar participants will be published on DOE's website: https://www.energy.gov/eere/buildings/public-meetings-and-comment-deadlines. Participants are responsible for ensuring their systems are compatible with the webinar software.

Docket: The docket, which includes Federal Register notices, public meeting attendee lists and transcripts, comments, and other supporting documents/materials, is available for review at http://www.regulations.gov. All documents in the docket are listed in the http://www.regulations.gov index. However, some documents listed in the index, such as those containing information that is exempt from public disclosure, may not be publicly available. A link to the docket web page can be found at: http://www.regulations.gov/docket?D=EERE-2019-BT-NOA-0011. The http://www.regulations.gov web page contains instructions on how to access all documents, including public comments, in the docket.

FOR FURTHER INFORMATION CONTACT: Ms. Jennifer Tiedeman, U.S. Department of Energy, Office of the General Counsel, GC-33, 1000 Independence Avenue SW, Washington, DC 20585-0121. Telephone: (202) 287-6111. Email: Jennifer.Tiedeman@hq.doe.gov.

SUPPLEMENTARY INFORMATION: On May 1, 2019, DOE published a NOPR in the Federal Register that proposed amendments to its regulations to streamline its test procedure interim waiver decision-making process. (84 FR 18414) The proposed amendments would require the Department to notify, in writing, an applicant for an interim waiver of the disposition of the request within 30 business days (i.e., approximately 45 days) of receipt of the application. Should DOE fail to satisfy this requirement, the request for interim waiver would be deemed granted based on the criteria in DOE regulations. Specifically, DOE regulations require that DOE grant an interim waiver if it determines that it is desirable for public policy reasons to grant immediate relief pending a determination of the petition for waiver. An interim waiver would remain in effect until a waiver decision is published or until DOE publishes a new or amended test procedure that addresses the issues presented in the application, whichever is earlier. If the alternate test procedure ultimately required by DOE differs from what is specified in the interim waiver, manufacturers would have a 180-day grace period to begin using the alternate test procedure specified in the decision and order on the petition. This proposal is intended to address delays in DOE's current process for considering requests for interim waivers and waivers from the DOE test method. These delays impose costs on manufacturers, as they cannot certify and distribute their products while they wait for DOE to respond to their petitions.

The NOPR provides for the submission of comments by July 1, 2019. DOE has received several requests to hold a public meeting and to extend the comment period on the proposal. While these requests have been made by both large corporations and interest groups the purpose of which are, for the most part, to participate in DOE rulemakings, DOE has been made aware by the U.S. Small Business Administration (SBA) of the interest of small businesses and their representatives in this rulemaking. As a result, SBA is holding its own “dial-in” roundtable on this proposal focused on the particular interests of small businesses. Because small businesses typically do not have the resources available to those entities that have requested a public meeting on this rule to travel to Washington, DC to attend such a meeting, DOE has determined in consultation with SBA that it is appropriate to offer an online webinar available to the public. Further, holding a webinar will allow all interested stakeholders to conserve resources while allowing full public participation.

Given the importance to DOE of receiving public input, DOE is also extending the comment period by 14 days until July 15, 2019, so that the webinar can be held before comments are due. The webinar will be held on Thursday, July 11, from 9:00 a.m. to 11:00 a.m. DOE will consider comments received by midnight on July 15, 2019.

Signed in Washington, DC, on June 20, 2019.
Alexander N. Fitzsimmons,
Acting Deputy Assistant Secretary for Energy Efficiency Energy Efficiency and Renewable Energy, U.S. Department of Energy.

[FR Doc. 2019-13593 Filed 6-25-19; 8:45 am]

BILLING CODE 6450-01-P